DEPARTMENT OF HEALTH AND HUMAN SERVICES

National Institutes of Health

National Cancer Institute; Amended Notice of Meeting

Notice is hereby given of a change in the meeting of the National Cancer Institute Special Emphasis Panel, October 16, 2013, 10:00 a.m. to October 16, 2013, 03:00 p.m., National Cancer Institute Shady Grove, West Tower, 9609 Medical Center Drive, Room 1W030, Rockville, MD, 20850 which was published in the Federal Register on August 16, 2013, 78FR50065.

Due to the absence of either an FY 2014 appropriation or Continuing Resolution for the Department of Health and Human Services, the SEP meeting is rescheduled for November 4, 2013 from 10:00 a.m. to 2:00 p.m. and the meeting location remains the same, however, the meeting room has changed to 6W032. The meeting is closed to the public.

Dated: October 22, 2013.
Melanie J. Gray,
Program Analyst, Office of Federal Advisory Committee Policy.

[FR Doc. 2013-25236 Filed 10-25-13; 8:45 am]

BILLING CODE 4140-01-P